DEPARTMENT OF AGRICULTURE

Forest Service

Intergovernmental Advisory Committee Meeting, Northwest Forest Plan

AGENCY: Forest Service, USDA.

ACTION: Notice of meeting.

SUMMARY: The Intergovernmental Advisory Committee (IAC), Northwest Forest Plan (NWFP), has scheduled an educational field trip on August 17, 2005, from 8 a.m. to 5 p.m. in Yreka, California. The purpose of the field trip is to have the committee learn more about fire-prone systems and how they affect local communities. The IAC will be given an update on the work of the Regional Interagency Executive Committee (RIEC) Fire-Prone Systems subcommittee, as well as other RIEC subcommittee efforts. These topics are based on key findings and trends from the April 19-20, 2005, Science and the Northwest Forest Plan, Knowledge Gained Over a Decade conference and advice received from the IAC on April 21, 2005.

Due to travel limitations, the field trip is open to committee members only. Written comments may be submitted for the meeting record.

FOR FURTHER INFORMATION CONTACT: Questions regarding this meeting may be directed to Kath Collier, Management Analyst, Regional Ecosystem Office, 333 SW. First Avenue, PO Box 3623, Portland, OR 97208 (telephone: 503-808-2165).

Dated: July 15, 2005.
Anne Badgley,
Designated Federal Official.

[FR Doc. 05-15490 Filed 8-4-05; 8:45 am]

BILLING CODE 3410-11-M